DEPARTMENT OF COMMERCE

International Trade Administration

[A-570-207, A-570-209, C-570-208, C-570-210]

Less-Than-Fair Value and Countervailing Duty Investigations of Fiberglass Door Panels and Polypropylene Corrugated Boxes From the People's Republic of China; Correction

AGENCY: Enforcement and Compliance, International Trade Administration, Department of Commerce.

ACTION: Notice; correction.

SUMMARY: The U.S. Department of Commerce (Commerce) published the notice of initiation for the less-than-fair value (LTFV) and countervailing duty (CVD) investigations of polypropylene corrugated boxes from the People's Republic of China (China) in the Federal Register of April 14, 2025, and for the LTFV and CVD investigations of fiberglass door panels from China in the Federal Register of April 15, 2025. In those initiation notices, Commerce inadvertently assigned case numbers that are already in use and is thus now assigning new case numbers.

DATES: Applicable May 20, 2025.

FOR FURTHER INFORMATION CONTACT: T.J. Worthington, AD/CVD Operations, Office III, Enforcement and Compliance, International Trade Administration, U.S. Department of Commerce, 1401 Constitution Avenue NW, Washington, DC 20230; telephone: (202) 482-4567.

SUPPLEMENTARY INFORMATION:

Background

On April 14, 2025, Commerce published in the Federal Register the notice of initiation for the LFTV investigation of polypropylene corrugated boxes from China and the notice of initiation for the CVD investigation of polypropylene corrugated boxes from China.¹ On April 15, 2025, Commerce published in the Federal Register the notice of initiation for the LFTV investigation of fiberglass door panels from China and the notice of initiation for the CVD investigation of fiberglass door panels from China.² In the aforementioned initiation notices, Commerce inadvertently assigned case numbers that are already in use. Below, Commerce is establishing new case numbers for these investigations, all interested parties must use these new case numbers for filings related to the above-mentioned investigations.

¹ See Polypropylene Corrugated Boxes from the People's Republic of China and the Socialist Republic of Vietnam: Initiation of Less-Than-Fair-Value Investigations, 90 FR 15544 (April 14, 2025); see also Polypropylene Corrugated Boxes from the People's Republic of China: Initiation of Countervailing Duty Investigation, 90 FR 15555 (April 14, 2025).

² See Fiberglass Door Panels from the People's Republic of China: Initiation of Less-Than-Fair-Value Investigation, 90 FR 15684 (April 15, 2025); see also Fiberglass Door Panels from the People's Republic of China: Initiation of Countervailing Duty Investigation, 90 FR 15692 (April 15, 2025).

Correction 1

In the Federal Register of April 14, 2025, in FR Doc 2025-06285, on page 15544, in the first column, correct the case number from “A-570-203” to “A-570-207”.

Correction 2

In the Federal Register of April 14, 2025, in FR Doc 2025-06284, on page 15555, in the third column, correct the case number from “C-570-204” to “C-570-208”.

Correction 3

In the Federal Register of April 15, 2025, in FR Doc 2025-06383, on page 15684, in the second column, correct the case number from “A-570-201” to “A-570-209”.

Correction 4

In the Federal Register of April 15, 2025, in FR Doc 2025-06384, on page 15692, in the third column, correct the case number from “C-570-202” to “C-570-210”.

Notification to Interested Parties

This notice is issued and published in accordance with sections 702(c)(2) and 732(c)(2) of the Tariff Act of 1930, as amended.

Dated: May 15, 2025.
Scot Fullerton,
Acting Deputy Assistant Secretary for Antidumping and Countervailing Duty Operations.

[FR Doc. 2025-08975 Filed 5-19-25; 8:45 am]

BILLING CODE 3510-DS-P